ADVISORY COUNCIL ON HISTORIC PRESERVATION

Meeting

AGENCY: Advisory Council on Historic Preservation.

ACTION: Notice of meeting.

SUMMARY: Notice is hereby given that the Advisory Council on Historic Preservation (ACHIP) will meet on Friday, February 21, 2003. The meeting will be held in the Pavilion Ballroom, U.S. Grant Hotel, 326 Broadway, San Diego, California, beginning at 8:30 a.m.

The ACHIP was established by National Historic Preservation Act of 1966 (16 U.S.C. 470 et seq.) to advise the President and the Congress on matters relating to historic preservation and to comment upon Federal, Federally assisted, and Federally licensed undertakings having an effect upon properties listed in or eligible for inclusion in the National Register of Historic Places. The ACHIP's members are the Architect of the Capitol; the Secretaries of the Interior, Agriculture, Defense, and Transportation; the Administrators of the Environment Protection Agency and General Services Administration; the Chairman of the National Trust for Historic Preservation; the President of the National Conference of State Historic Preservation Officers; a Governor; a Major; a Native Hawaiian and eight non-Federal members appointed by the President.

The agenda for the meeting includes the following:

I. Chairman's Welcome

II. Presentation of Chairman's Awards for Federal Achievement in Historic Preservation

III. Report of the Executive Committee

A. FY 2003 ACHIP Appropriation

B. FY 2004 ACHIP Budget Request

C. ACHIP Legislative Priorities for the 108th Congress

1. ACHIP Reauthorization Legislation

IV. Presidential Initiatives

A. Preserve America Program Development

B. Preserving America's Heritage Executive Order Implementation

V. Report of the Preservation Initiatives Committee

A. Federal Heritage Tourism Summit

B. Historic Preservation Tax Incentives

VI. Report of the Federal Agency Programs Committee

A. Security Requirements for Federal Buildings

B. Surface Transportation Reauthorization Legislation

C. Telecommunications Working Group Update

D. Section 106 Cases

VII. Report of Communications, Education, and Outreach Committee

A. Chairman's Historic Preservation Awards Criteria and Process

B. ACHIP “Tag Line”

VIII. Chairman's Report

A. Land Transfer Ceremony, Raymond, Mississippi

IX. Executive Director's Report

X. New Business

XI. Adjourn

Note: The meetings of the ACHIP are open to the public. If you need special accommodations due to a disability, please contact the Advisory Council on Historic Preservation, 1100 Pennsylvania Ave., NW., Room 809, Washington, DC, 202-606-8503, at least (7) days prior to the meeting.

FOR FURTHER INFORMATION CONTACT: Additional information concerning the meeting is available from the Executive Director, Advisory Council on Historic Preservation, 1100 Pennsylvania Ave., NW., #809, Washington, DC 20004.

Dated: February 5, 2003.
John M. Fowler,
Executive Director.

[FR Doc. 03-3368 Filed 1-10-03; 8:45 am]

BILLING CODE 4310-10-M